INTERNATIONAL TRADE COMMISSION

[Investigation No. 731-TA-1058 (Final)]

Wooden Bedroom Furniture From China

Determination

On the basis of the record ¹ developed in the subject investigation, the United States International Trade Commission (Commission) determines, pursuant to section 735(b) of the Tariff Act of 1930 (19 U.S.C. 1673d(b)) (the Act), that an industry in the United States is materially injured by reason of imports from China of wooden bedroom furniture, provided for in subheadings 9403.50.90 and 7009.92.50 of the Harmonized Tariff Schedule of the United States, that have been found by the Department of Commerce (Commerce) to be sold in the United States at less than fair value (LTFV).

¹ The record is defined in sec. 207.2(f) of the Commission's Rules of Practice and Procedure (19 CFR 207.2(f)).

Background

The Commission instituted this investigation effective October 31, 2003, following receipt of a petition filed with the Commission and Commerce by the American Furniture Manufacturers Committee for Legal Trade and its individual members; the Cabinet Makers, Millmen, and Industrial Carpenters, Local 721; the UBC Southern Council of Industrial Workers, Local 2305; the United Steelworkers of America, Local 193U; the Carpenters Industrial Union, Local 2093; the Teamsters, Chauffeurs, Warehousemen and Helpers, Local 991; and the IUE, Industrial Division of the CWA, Local 82472.

The final phase of the investigation was scheduled by the Commission following notification of a preliminary determination by Commerce that imports of wooden bedroom furniture from China were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of July 15, 2004 (69 FR 42452). The hearing was held in Washington, DC, on November 9, 2004, and all persons who requested the opportunity were permitted to appear in person or by counsel.

The Commission transmitted its determination in this investigation to the Secretary of Commerce on December 22, 2004. The views of the Commission are contained in USITC Publication 3743 (December 2004), entitled Wooden Bedroom Furniture from China: Investigation No. 731-TA-1058 (Final).

By order of the Commission.
Issued: December 22, 2004.
Marilyn R. Abbott,
Secretary to the Commission.

[FR Doc. 04-28341 Filed 12-27-04; 8:45 am]

BILLING CODE 7020-02-P